DEPARTMENT OF TRANSPORTATION

Federal Motor Carrier Safety Administration

[Docket No. FMCSA-2008-0362]

Medical Review Board (MRB); Notice of Closed Meeting

AGENCY: Federal Motor Carrier Safety Administration (FMCSA), Department of Transportation (DOT).

ACTION: Notice of closed meeting.

SUMMARY: This notice announces a meeting of the MRB.

DATES: The meeting will be held on Wednesday, May 10, 2023, from 9:30 a.m. to 4:30 p.m. ET. The meeting will be closed to the public for its entirety.

ADDRESSES: The meeting will be held virtually for its entirety. FMCSA will make the MRB task statement relating to the review of medical examiner certification test questions and an agenda for the meeting available at www.fmcsa.dot.gov/mrb at least 1 week in advance of the meeting. Copies of the meeting minutes will be available at the website following the meeting. You may visit the MRB website at www.fmcsa.dot.gov/mrb for further information on the committee and its activities.

FOR FURTHER INFORMATION CONTACT: Ms. Shannon L. Watson, Senior Advisor to the Associate Administrator for Policy, FMCSA, 1200 New Jersey Avenue SE, Washington, DC 20590, (202) 360-2925, mrb@dot.gov. Any committee-related request should be sent to the person listed in this section.

SUPPLEMENTARY INFORMATION:

I. Background

MRB was created under the Federal Advisory Committee Act (FACA) in accordance with section 4116 of the Safe, Accountable, Flexible, Efficient Transportation Equity Act: A Legacy for Users ¹ to provide FMCSA “with medical advice and recommendations on medical standards and guidelines for the physical qualifications of operators of commercial motor vehicles, medical examiner education, and medical research” (49 U.S.C. 31149(a)(1)). MRB operates in accordance with FACA under the terms of the MRB charter, filed November 25, 2021.

¹ Public Law 109-59, 119 Stat. 1144, 1726 (2005).

II. Agenda

The MRB will complete its review of test questions to be used to determine eligibility of healthcare professionals to be certified as medical examiners and be listed on the National Registry of Certified Medical Examiners. MRB began this review at its September 14, 2022, meeting.

III. Public Participation

The meeting will be closed to the public due to the discussion of specific test questions to be used to certify medical examiners, which are not available for release to the public. Premature disclosure of secure test information would compromise the integrity of the examination and therefore exemption 9(B) of section 552b(c) of Title 5 of the United States Code justifies closing this portion of the meeting pursuant to 41 CFR 102-3.155(a).

Larry W. Minor,
Associate Administrator for Policy.

[FR Doc. 2023-08773 Filed 4-25-23; 8:45 am]

BILLING CODE 4910-EX-P